SMALL BUSINESS ADMINISTRATION

[Disaster Declaration #17301 and #17302; WASHINGTON Disaster Number WA-00100]

Presidential Declaration of a Major Disaster for the State of Washington

AGENCY: Small Business Administration.

ACTION: Amendment 1.

SUMMARY: This is an amendment of the Presidential declaration of a major disaster for the State of Washington (FEMA-4635-DR), dated 01/05/2022.

Incident: Severe Storms, Straight-line Winds, Flooding, Landslides, and Mudslides.

Incident Period: 11/05/2021 through 12/02/2021.

DATES: Issued on 01/27/2022.

Physical Loan Application Deadline Date: 03/07/2022.

Economic Injury (EIDL) Loan Application Deadline Date: 10/05/2022.

ADDRESSES: Submit completed loan applications to: U.S. Small Business Administration, Processing and Disbursement Center,14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for the State of Washington, dated 01/05/2022, is hereby amended to change the incident for this disaster to Severe Storms, Straight-line Winds, Flooding, Landslides, and Mudslides. This disaster declaration is also amended to re-establish the incident period for this disaster as beginning 11/05/2021 through and including 12/02/2021.

All other information in the original declaration remains unchanged.

(Catalog of Federal Domestic Assistance Number 59008)

Barbara Carson,
Deputy Associate Administrator for Disaster Assistance.

[FR Doc. 2022-02196 Filed 2-2-22; 8:45 am]

BILLING CODE 8026-03-P